DEPARTMENT OF AGRICULTURE

Animal and Plant Health Inspection Service

[Docket No. APHIS-2025-0004]

Notice of Intent To Prepare an Environmental Impact Statement for Grizzly Bear Damage Management in Montana

ACTION: Notice of intent to prepare an environmental impact statement, request for comments.

SUMMARY: We are advising the public of our intent to prepare an environmental impact statement (EIS) evaluating the effects of managing grizzly bear (Ursus arctos horribilis) damage in Montana. The unique identification number for this project is EISX-005-32-24W-1738675512. This notice proposes issues and alternatives for consideration in the EIS and requests public comments to further delineate the scope of the alternatives, environmental issues, and other issues of public concern to be considered in the EIS. This notice also serves to inform the public that the Department of the Interior's U.S. Fish and Wildlife Service and Montana Fish, Wildlife, and Parks have joined as cooperating agencies in the EIS process.

DATES: We will consider all comments that we receive on or before May 14, 2025.

ADDRESSES: You may submit comments by either of the following methods:

• Federal eRulemaking Portal: Go to www.regulations.gov. Enter APHIS-2025-0004 in the Search field. Select the Documents tab, then select the Comment button in the list of documents.

• U.S. mail: Public Comments Processing; Attn: Docket No. APHIS-2025-0004; USDA, APHIS, Wildlife Services, P.O. Box 1938, Billings, MT 59103. For additional information about submitting comments, see Public Scoping Process under SUPPLEMENTARY INFORMATION.

For tracking purposes, the unique identification number for this project is EISX-005-32-24W-1738675512.

FOR FURTHER INFORMATION CONTACT: Mr. Dalin Tidwell, WS-Montana State Director: APHIS-WS-Montana, P.O. Box 1938, Billings, MT 59103; phone: (406) 657-6464; email: dalin.w.tidwell@usda.gov. Individuals in the United States who are deaf, blind, hard of hearing, or have a speech disability may dial 711 (TTY, TDD, or TeleBraille) to access telecommunications relay services. Individuals outside the United States should use the relay services offered within their country to make international calls to the point-of contact in the United States.

SUPPLEMENTARY INFORMATION:

Background

In May 2021, the Animal and Plant Health Inspection Service's (APHIS) Wildlife Services (WS) program issued a final environmental assessment (EA) and finding of no significant impacts (FONSI) for Predator Damage and Conflict Management in Montana.¹ In 2023, WildEarth Guardians, Western Watersheds Project, and Trap Free Montana filed a lawsuit challenging that decision. On November 7, 2024, the Court issued an order granting summary judgment to plaintiffs, finding that an environmental impact statement (EIS) is required, remanding the WS May 2021 decision, and directing WS to “address the deficiencies identified in this Order” on remand.² Consistent with the Court's Order, WS will prepare an EIS to reevaluate the impacts of the May 2021 decision on grizzly bears.

¹ To view the draft and final EAs, FONSI, and the comments we received, go to https://www.regulations.gov/docket/APHIS-2021-0002.

² WildEarth Guardians et al., v. Bucknall et al., 9:23-cv-00010 (D. Mont.).

APHIS-WS provides Federal professional leadership and expertise in resolving wildlife conflicts to help create a balance that allows people and wildlife to coexist. When assistance is requested, APHIS-WS recommends and/or implements wildlife damage management that incorporates biological, economic, environmental, legal, and other information into a wildlife damage management decision-making process, and includes many methods for managing wildlife damage, including nonlethal and lethal options.

APHIS-WS gives preference to practical and effective nonlethal methods but, in some cases, concurrent use of nonlethal and lethal methods or immediate use of lethal methods may be the most appropriate solution (e.g., threats to human safety). APHIS-WS may use or recommend the following methods to reduce damage: Changes to agricultural practices, capture and relocation, livestock guarding animals, habitat modification, exclusion, frightening devices, carcass disposal, human behavior modification (e.g., trash management and not feeding wildlife), shooting, snares, and traps.

Grizzly bears are primarily managed by the Department of the Interior's U.S. Fish and Wildlife Service (USFWS) as a threatened species under the Endangered Species Act (ESA). State law authorizes Montana Fish, Wildlife, and Parks (MFWP) to manage wildlife species, including grizzly bears. WS-Montana coordinates with MFWP, the USFWS, the Bureau of Land Management (BLM), the U.S. Forest Service (USFS), the Montana Department of Livestock (MDOL), the Montana Livestock Loss Board (MLLB), the Confederated Salish and Kootenai Tribes, and the Blackfeet Nation, as appropriate, for actions involving grizzly bear damage management (GBDM).

WS-Montana conducts GBDM only where a property owner or manager, including government, Tribal, commercial, organizational, or private entity, has requested assistance and work initiation documents (WIDs), memoranda of understanding (MOUs), interagency agreements, cooperative service agreements, and/or work plans are in place to coordinate work. APHIS-WS conducts its activities pursuant to the Acts of March 2, 1931 (7 U.S.C. 8351-8352), as amended, and December 22, 1987 (7 U.S.C. 8353). APHIS-WS also conducts its activities in accordance with applicable Federal and State laws and regulations.

Purpose and Need for the Proposed Action

The purpose of WS-Montana's GBDM activities is to minimize or reduce the impact of grizzly bear conflicts, including agricultural and property damage, threats of damage, and risks to human and pet health and safety, by responding to all requests for assistance with human and grizzly bear conflicts.

Grizzly bear related conflicts and damage in Montana are increasing as both the human and grizzly bear populations increase. Grizzly bear damage has contributed to livestock, agricultural resources/crops, and property loss and human and pet health and safety events in Montana. Land and resource entities and Federal, State, and local agencies and Tribes are seeking assistance with resolving grizzly bear conflicts. WS-Montana provides expertise resolving human wildlife conflicts. Agency responsiveness to requests for assistance provides an overall benefit to the wildlife species causing damage by alleviating public frustration and building social tolerance in a landscape where predators including grizzly bears were once persecuted.

Proposed Action and Alternatives

WS-Montana intends to prepare an environmental impact statement (EIS) pursuant to the National Environmental Policy Act (NEPA; 42 U.S.C. 4321 et seq.) and the Department of Agriculture's NEPA regulations (7 CFR 372.5) to evaluate effects of ongoing GBDM activities and consider alternatives for GBDM. USFWS and MFWP are the cooperating agencies on the EIS. MDOL, USFS, BLM, Sanders County, and Mineral County have been invited to be participating agencies. WS-Montana has also invited the federally recognized Tribes in the State to participate in preparation of the EIS. We invite comments from the public and local, State, Tribal, and Federal agencies on the scope of the analysis, potential alternatives, and identification of relevant information, studies, and analyses.

WS-Montana proposes to continue responding to requests for assistance in protecting livestock, property, and human/pet health and safety from managing damage by grizzly bears. WS-Montana has identified five alternatives for potential consideration in the EIS, including continuation of the current WS-Montana GBDM activities (the no-action alternative/proposed action) and an alternative that discontinues all WS-Montana involvement in GBDM. Other alternatives incorporate varying combinations of WS-Montana involvement in grizzly damage management, including variations of technical assistance (advice, information, education, and/or demonstrations), operational field assistance (active management of offending bears), and the type of lethal and nonlethal methods available for use. The following alternatives are preliminary and may be revised based on public input and internal considerations during development of the draft EIS.

• Alternative 1: Continuation of WS-Montana GBDM activities using integrated wildlife damage management (IWDM) methods (No Action/Proposed Action).

• Alternative 2: WS-Montana Provides Lethal and Nonlethal GBDM Technical Assistance and Only Nonlethal Operational Assistance.

• Alternative 3: WS-Montana Provides Nonlethal GBDM Assistance Before Applying Lethal Assistance.

• Alternative 4: WS-Montana Provides only Nonlethal GBDM, unless in protection of Human Health and Safety or Threatened and Endangered Species Protection.

• Alternative 5: No WS-Montana involvement in GDBM activities.

Under all alternatives, WS-Montana actions would be conducted in accordance with applicable Federal, State, Tribal, and local laws and regulations, and in accordance with current MOUs and other agreements between WS-Montana and Federal, State, and Tribal agencies.

Summary of Expected Effects

The EIS will identify and describe the reasonably foreseeable direct, indirect and cumulative effects of alternatives for WS-Montana involvement in GBDM. The scope of the analysis will include all land classes where GBDM may occur including public and private lands in rural, urban, and suburban areas by agreement as requested. The EIS will include, if available, and analyze specific, updated, accurate, and best available information about where, why, and how grizzly bears are lethally removed, including the sex of the bear; how lethally removing grizzly bears may adversely affect dispersal and connectivity between recovery zones; and the cumulative effects of lethally removing grizzly bears. Anticipated impacts may include, but are not limited to, beneficial and adverse impacts to grizzly bears, other biological resources, land use, recreation and visitor use, historical and cultural resources, and socioeconomics. Beneficial impacts to resources and localized adverse impacts to grizzlies are expected, as these are the focus of the management strategy. Beneficial impacts to other biological resources, specifically to species that are prey for, or competitors with, grizzly bears may occur in localized areas where GBDM occurs. Minimal localized, beneficial, and/or adverse impacts to recreation and visitor use, and to historical and cultural resources, may occur in areas where GBDM occurs. The analysis will also consider the adequacy of each alternative to meet the purpose and need for action.

Issues for Detailed Consideration in the Analysis

In considering reasonable alternatives, the EIS will analyze the effects of GBDM activities on important environmental issues and other issues of public concern. APHIS-WS and the cooperating agencies have identified the following issues for consideration in the EIS:

• Impacts on grizzly bear populations from intentional take;

• Effects on nontarget animal populations, including species federally listed under the ESA;

• Impacts of the alternatives on predator-prey relationships and ecosystem processes (e.g., trophic cascades);

• Humaneness and ethical perspectives regarding actions proposed in the alternatives;

• Risks and benefits to human and pet safety from integrated GBDM activities;

• Impacts on Special Management Areas, including Wilderness and Wilderness Study Areas; and

• Sociocultural impacts, including impacts on Native American cultural uses, values, hunting, non-consumptive uses, aesthetic impacts, and economic effects.

We encourage the public to submit comments identifying additional issues.

Permits and Other Authorizations

Anticipated permits, consultations, or other authorizations related to implementation of the management strategy and issuance of ESA 4(d) take authorization may include but are not limited to: ESA section 7 consultation; State Scientific Collector's permits; government-to-government consultations with Tribes; and consultation regarding effects of the action pursuant to the National Historic Preservation Act.

Schedule for the Decision-Making Process

WS-Montana will review and consider comments received during scoping and incorporate substantive comments while writing the draft EIS. WS-Montana anticipates completion of the draft EIS in early 2026, at which time we will publish a notice of availability requesting public comments. After public review and comment, WS-Montana will evaluate comments received and anticipates making the final EIS available to the public in fall 2026. A record of decision shall not be made or issued for a minimum of 30 days after the publication of the final EIS.

Public Comment Procedures

We request written comments on the proposed action, including comments concerning the appropriate scope of the analysis and identification of relevant information, studies, and analyses, from the public; affected Federal, State, Tribal, and local governments, agencies, and offices; the scientific community; industry; or any other interested party. We will consider these comments in developing the draft EIS. Specifically, we seek comments on:

• Biological information, analysis and relevant data concerning the Montana grizzly bear populations, connectivity, or damage management;

• Potential effects that the proposed action could have on endangered or threatened species, and their associated ecological communities or habitats;

• Potential effects that the proposed action could have on other species and their habitats;

• Potential effects that the proposed action could have on other aspects of the human environment including ecological, aesthetic, historic, cultural, economic, social, or health effects;

• The presence of historic and cultural properties—including archaeological sites, buildings, and structures; historic events; sacred and traditional areas; and other historic preservation concerns in the proposed project area, which are required to be considered in planning by the National Historic Preservation Act; and

• Reasonable alternatives to meet the purpose and need that WS-Montana should also consider.

Public Availability of Comments

You may submit your comments and materials by one of the methods listed above in ADDRESSES. Comments received in response to this solicitation will be part of the public record for this proposed action. Before including your address, phone number, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, will be made publicly available in their entirety. Comments submitted anonymously will be accepted and considered.

How To Request Reasonable Accommodations

For assistance, please contact the point of contact in FOR FURTHER INFORMATION CONTACT. Information regarding this project will be made available in alternate formats upon request.

Literature Cited

USDA Wildlife Services. 2014. Wildlife Services Directive 2.201: WS decision model. U.S. Department of Agriculture. Washington, DC, USA.

USDA Wildlife Services. 2018. Wildlife Services Program Directives. January 23, 2020. https://www.aphis.usda.gov/aphis/ourfocus/wildlifedamage/sa_ws_program_directives. Accessed 1/23/2020.

Done in Washington, DC, this 4th day of April 2025.
Michael Watson,
Administrator, Animal and Plant Health Inspection Service.

[FR Doc. 2025-06385 Filed 4-14-25; 8:45 am]

BILLING CODE 3410-34-P